DEPARTMENT OF TRANSPORTATION

Federal Aviation Administration

14 CFR Part 39

[Docket No. FAA-2014-0219; Directorate Identifier 2014-NE-04-AD]

RIN 2120-AA64

Airworthiness Directives; Turbomeca S.A. Turboshaft Engines

AGENCY: Federal Aviation Administration (FAA), DOT.

ACTION: Notice of proposed rulemaking (NPRM).

SUMMARY: We propose to adopt a new airworthiness directive (AD) for certain Turbomeca S.A. Makila 2A and Makila 2A1 turboshaft engines. This proposed AD was prompted by failure of two high-pressure (HP) fuel pumps that resulted in engine in-flight shutdowns. This proposed AD would require initial and repetitive visual inspections, and replacement of the splines of the HP fuel pump/metering valve and the module M01 drive gear, if necessary. We are proposing this AD to prevent failure of the HP fuel pump, which could lead to an in-flight shutdown, damage to the engine, and forced landing or accident.

DATES: We must receive comments on this proposed AD by July 11, 2014.

ADDRESSES: You may send comments by any of the following methods:

• Federal eRulemaking Portal: Go to http://www.regulations.gov and follow the instructions for sending your comments electronically.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this proposed AD, contact Turbomeca, S.A., 40220 Tarnos, France; phone: 33 (0)5 59 74 40 00; telex: 570 042; fax: 33 (0)5 59 74 45 15. You may view this service information at the FAA, Engine & Propeller Directorate, 12 New England Executive Park, Burlington, MA. For information on the availability of this material at the FAA, call 781-238-7125.

Examining the AD Docket

You may examine the AD docket on the Internet at http://www.regulations.gov by searching for and locating Docket No. FAA-2014-0219; or in person at the Docket Operations office between 9 a.m. and 5 p.m., Monday through Friday, except Federal holidays. The AD docket contains this proposed AD, the mandatory continuing airworthiness information (MCAI), the regulatory evaluation, any comments received, and other information. The address for the Docket Office (phone: 800-647-5527) is in the ADDRESSES section. Comments will be available in the AD docket shortly after receipt.

FOR FURTHER INFORMATION CONTACT: James E. Gray, Aerospace Engineer, Engine Certification Office, FAA, Engine & Propeller Directorate, 12 New England Executive Park, Burlington, MA 01803; phone: (781) 238-7742; fax: (781) 238-7199; email: James.E.Gray@faa.gov.

SUPPLEMENTARY INFORMATION:

Comments Invited

We invite you to send any written relevant data, views, or arguments about this proposed AD. Send your comments to an address listed under the ADDRESSES section. Include “Docket No. FAA-2014-0219; Directorate Identifier 2014-NE-04-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD.

Discussion

The European Aviation Safety Agency (EASA), which is the Technical Agent for the Member States of the European Community, has issued EASA AD 2014-0059, dated March 10, 2014 (referred to hereinafter as “the MCAI”), to correct an unsafe condition for the specified products. The MCAI states:

Two uncommanded in-flight shutdowns on Makila 2A/2A1 engines have been reported. The results of the technical investigations concluded that these events were caused by deterioration of the splines on the high-pressure (HP) fuel pump drive link, which eventually interrupted the fuel supply to the engine.

This condition, if not detected and corrected, could lead to further cases of uncommanded engine in-flight shutdown, and may ultimately lead to an emergency landing.

We are proposing this AD to prevent failure of the HP fuel pump, which could lead to an in-flight shutdown, damage to the engine, and forced landing or accident.

You may obtain further information by examining the MCAI in the AD docket on the Internet at http://www.regulations.gov by searching for and locating Docket No. FAA-2014-0219.

Relevant Service Information

Turbomeca S.A. has issued Mandatory Service Bulletin (MSB) No. 298 73 2818, Version F, dated March 5, 2014. The MSB describes procedures for cleaning and visually inspecting the splines of the HP fuel pump/metering valve and the module M01 drive gear for wear, corrosion, scaling, pitting, and chafing.

FAA's Determination and Requirements of This Proposed AD

This product has been approved by the aviation authority of France, and is approved for operation in the United States. Pursuant to our bilateral agreement with the European Community, EASA has notified us of the unsafe condition described in the MCAI and service information referenced above. We are proposing this AD because we evaluated all information provided by EASA and determined the unsafe condition exists and is likely to exist or develop on other products of the same type design. This proposed AD would require initial and repetitive visual inspections, and replacement of the splines of the HP fuel pump/metering valve and the module M01 drive gear, if necessary.

Costs of Compliance

We estimate that this proposed AD affects 8 engines installed on helicopters of U.S. registry. We also estimate that it would take about 2 hours per engine to comply with this proposed AD. The average labor rate is $85 per hour. Required parts cost about $750 per engine. Based on these figures, we estimate the cost of this proposed AD on U.S. operators to be $1,360.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Turbomeca S.A.: Docket No. FAA-2014-0219; Directorate Identifier 2014-NE-04-AD.

(a) Comments Due Date

We must receive comments by July 11, 2014.

(b) Affected ADs

None.

(c) Applicability

This AD applies to Turbomeca S.A. Makila 2A and Makila 2A1 turboshaft engines with a high-pressure (HP) fuel pump, part number (P/N) 0 298 91 806 0 or P/N 0 298 91 805 0, installed, that have not incorporated Turbomeca modification TU 59.

(d) Reason

This AD was prompted by failure of two HP fuel pumps that resulted in engine in-flight shutdowns. We are proposing this AD to prevent failure of the HP fuel pump, which could lead to an in-flight shutdown, damage to the engine, and forced landing or accident.

(e) Actions and Compliance

Comply with this AD within the compliance times specified, unless already done.

(1) Within 25 flight hours (FH) or 6 months after the effective date of this AD, whichever occurs earlier, clean and visually inspect the splines of the HP fuel pump/metering valve and the module M01 drive gear for wear, corrosion, scaling, pitting, and chafing.

(2) Thereafter, reinspect every 100 FH since-last-inspection.

(3) If the HP fuel pump/metering valve or the module M01 drive gear fail the inspection required by this AD, replace it with a part eligible for installation before further flight.

(4) After the effective date of this AD, do not install any HP fuel pump, HP fuel pump drive shaft, module 01 drive gear, or module M01 77-tooth gear onto any engine, or install any engine onto any helicopter, unless the HP fuel pump/metering valve and the module M01 drive gear passed the inspection required by paragraph (e) of this AD.

(f) Alternative Methods of Compliance (AMOCs)

The Manager, Engine Certification Office, FAA, may approve AMOCs to this AD. Use the procedures found in 14 CFR 39.19 to make your request.

(g) Related Information

(1) For more information about this AD, contact James E. Gray, Aerospace Engineer, Engine Certification Office, FAA, Engine & Propeller Directorate, 12 New England Executive Park, Burlington, MA 01803; phone: (781) 238-7742; fax: (781) 238-7199; email: James.E.Gray@faa.gov.

(2) Refer to MCAI European Aviation Safety Agency AD 2014-0059, dated March 10, 2014, for more information. You may examine the MCAI in the AD docket on the Internet at http://www.regulations.gov by searching for and locating it in Docket No. FAA-2014-0219.

(3) Turbomeca S.A. Mandatory Service Bulletin No. 298 73 2818, Version F, dated March 5, 2014, pertains to the subject of this AD and can be obtained from Turbomeca S.A., using the contact information in paragraph (g)(4) of this AD.

(4) For service information identified in this AD, contact Turbomeca, S.A., 40220 Tarnos, France; phone: 33 (0)5 59 74 40 00; telex: 570 042; fax: 33 (0)5 59 74 45 15.

(5) You may view this service information at the FAA, Engine & Propeller Directorate, 12 New England Executive Park, Burlington, MA. For information on the availability of this material at the FAA, call 781-238-7125.

Issued in Burlington, Massachusetts, on May 6, 2014.
Colleen M. D'Alessandro,
Assistant Directorate Manager, Engine & Propeller Directorate, Aircraft Certification Service.

[FR Doc. 2014-10782 Filed 5-9-14; 8:45 am]

BILLING CODE 4910-13-P